DEPARTMENT OF HOUSING AND URBAN DEVELOPMENT

[Docket No. FR-5828-N-32]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to: Ms. Theresa M. Ritta, Chief Real Property Branch, the Department of Health and Human Services, Room 5B-17, Parklawn Building, 5600 Fishers Lane, Rockville, MD 20857, (301) 443-2265 (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: COAST GUARD: Commandant, United States Coast Guard, Attn: Jennifer Stomber, 2703 Martin Luther King Jr. Avenue SE., Stop 7741, Washington, DC 20593-7714; (202) 475-5609; COE: Mr. Scott Whiteford, Army Corps of Engineers, Real Estate, CEMP-CR, 441 G Street NW., Washington, DC 20314; (202) 761-5542; GSA: Mr. Flavio Peres, General Services Administration, Office of Real Property Utilization and Disposal, 1800 F Street NW., Room 7040, Washington, DC 20405, (202) 501-0084; HEALTH AND HUMAN SERVICES: Ms. Theresa M. Ritta, Chief Real Property Branch, the Department of Health and Human Services, Room 5B-17, Parklawn Building, 5600 Fishers Lane, Rockville, MD 20857, (301) 443-2265; NAVY: Mr. Steve Matteo, Department of the Navy, Asset Management; Division, Naval Facilities Engineering Command, Washington Navy Yard, 1330 Patterson Ave. SW., Suite 1000, Washington, DC 20374; (202) 685-9426. (These are not toll-free numbers).

Dated: July 30, 2015.
Brian P. Fitzmaurice
Director, Division of Community Assistance, Office of Special Needs Assistance Programs.

TITLE V, FEDERAL SURPLUS PROPERTY PROGRAM FEDERAL REGISTER REPORT FOR 08/07/2015

Suitable/Available Properties

Building

North Carolina

2 Buildings

East of NC Hwy 33

Hobucken NC 28537

Landholding Agency: Navy

Property Number: 77201530011

Status: Excess

Directions: 200' Communication Tower; Tower Support Facility

Comments: off-site removal only; contact Navy for information

Oklahoma

SWT-Roberts S. Kerr Lake

Applegate Crave

HC61 Box 238

Sallisaw OK 74955

Landholding Agency: COE

Property Number: 31201530001

Status: Unutilized

Comments: 263.97 sq. ft.; toilet; 43+ yrs.-old; poor conditions; contact COE for more information

Land

Tennessee

Parcels ED-13, 3A, 16

Portions of D-8 & ED-4

N. Side of Oak Ridge Turnpike (State Rte. 58)

Oak Ridge TN 37763

Landholding Agency: GSA

Property Number: 54201530001

Status: Surplus

GSA Number: 4-B-TN-0664-AF

Directions: Energy: Landholding Agency; GSA: Disposal Agency

Comments: 168 ± acres; legal constraints: ingress/egress utility easement; groundwater constraints; contact GSA for more information

Unsuitable Properties

Building

Arizona

11 Buildings

Marine Corps Air Station Yuma

Yuma AZ 85369

Landholding Agency: Navy

Property Number: 77201530003

Status: Unutilized

Directions: Building's 90, 92, 97, 98, 99, 102, 107, 110, 111, 113, 118

Comments: Public access denied and no alternative method to gain access without compromising national security.

Reasons: Secured Area

11 Buildings

Marine Corps Air Station Yuma

Yuma AZ 85369

Landholding Agency: Navy

Property Number: 77201530004

Status: Unutilized

Directions: Building's 501, 600, 2100, 2101, 2102, 2103, 2104, 2105, 2106, 2107, 619

Comments: Public access denied and no alternative method to gain access without compromising national security.

Reasons: Secured Area

10 Buildings

Marine Corps Air Station Yuma

Yuma AZ 85369

Landholding Agency: Navy

Property Number: 77201530005

Status: Unutilized

Directions: Building's 2108, 2111, 2113, 2115, 2116, 2117, 2118, 2119, 2120, 2125

Comments: Public access denied and no alternative method to gain access without compromising national security.

Reasons: Secured Area

Hawaii

3 Buildings

Joint Base Pearl Harbor Hickam

Honolulu HI 96860

Landholding Agency: Navy

Property Number: 77201530009

Status: Excess

Directions: 1237—NEX Services Outlet; 1417—Radioactive Waste Steam Plant; 1660—Dry-dock 4 Support Facility

Comments: Public access denied and no alternative method to gain access w/out compromising national security

Reasons: Secured Area

3 Buildings

Rainbow Hale Child Development

Center

JBPHH HI

Landholding Agency: Navy

Property Number: 77201530010

Status: Excess

Directions: 2266; 2267; 2268

Comments: Documented deficiencies: significant structural/exterior/interior damage due to termite infestation; documentation provided represents a clear threat to personal safety

Reasons: Extensive deterioration

New York

3 Buildings

Stewart Enclave, Stewart ANGB

700 Aviation Ave.

New Windsor NY

Landholding Agency: Navy

Property Number: 77201530007

Status: Underutilized

Directions: 801, 807; and 811

Comments: Public access denied and no alternative method to gain access w/out compromising national security

Reasons: Secured Area

2 Buildings

4856 Clair Rd.

Millport NY 14864

Landholding Agency: Coast Guard

Property Number: 88201530005

Status: Excess

Directions: Backup Power Generator Hut E- (OV1) [44732] Elmira High Level Site; Equipment Hut (OW01) [813823]

Comments: Public access denied and no alternative method to gain access w/out compromising national security

Reasons: Secured Area

Pennsylvania

Building 108—Warehouse

(PAPR0108)

626 Cochrans Mill Rd.

Pittsburgh PA 15236

Landholding Agency: HHS

Property Number: 57201530001

Status: Excess

Comments: CDC'S secured campus; public access denied and no alternative method to gain access without compromising national security

Reasons: Secured Area

Building 142-Lab

(PAPR0142)

626 Cochrans Mill Rd.

Pittsburgh PA 15236

Landholding Agency: HHS

Property Number: 57201530002

Status: Excess

Comments: CDC'S secured campus; public access denied and no alternative method to gain access without compromising national security

Reasons: Secured Area

Building 161-Lab

(PAPR0161)

626 Cochrans Mill Rd.

Pittsburgh PA 15236

Landholding Agency: HHS

Property Number: 57201530003

Status: Excess

Comments: CDC'S secured campus; public access denied and no alternative method to gain access without compromising national security

Reasons: Secured Area

Building 211-Warehouse

(PAPR0211)

626 Cochrans Mill Rd.

Pittsburgh PA 15236

Landholding Agency: HHS

Property Number: 57201530004

Status: Excess

Comments: CDC'S secured campus; public access denied and no alternative method to gain access without compromising national security

Reasons: Secured Area

Building 222-Explosive

Magazine (PAPR0222)

626 Cochrans Mill Rd.

Pittsburgh PA 15236

Landholding Agency: HHS

Property Number: 57201530005

Status: Excess

Comments: CDC'S secured campus; public access denied and no alternative method to gain access without compromising national security

Reasons: Secured Area

Building 6-Lab

(PAPR00006)

626 Cochrans Mill Rd.

Pittsburgh PA 15236

Landholding Agency: HHS

Property Number: 57201530006

Status: Excess

Comments: CDC'S secured campus; public access denied and no alternative method to gain access without compromising national security

Reasons: Secured Area

Building 39-Warehouse

(PAPR0039)

626 Cochrans Mill Rd.

Pittsburgh PA

Landholding Agency: HHS

Property Number: 57201530007

Status: Excess

Comments: CDC'S secured campus; public access denied and no alternative method to gain access without compromising national security

Reasons: Secured Area

Building 102-Warehouse

(PAPR0102)

626 Cochrans Mill Rd.

Pittsburgh PA 15236

Landholding Agency: HHS

Property Number: 57201530008

Status: Excess

Comments: CDC'S secured campus; public access denied and no alternative method to gain access without compromising national security

Reasons: Secured Area

Building 229-Explosive

Magazine (PAPR0229)

626 Cochrans Mill Rd.

Pittsburgh PA 15236

Landholding Agency: HHS

Property Number: 57201530009

Status: Excess

Comments: CDC'S secured campus; public access denied and no alternative method to gain access without compromising national security

Reasons: Secured Area

Land

Indiana

9 Hole Golf Course &

Adjacent Vacant Land

Naval Support Activity Crane

Crane IN 47522

Landholding Agency: Navy

Property Number: 77201530008

Status: Underutilized

Comments: Public access denied and no alternative method to gain access w/out compromising national security

Reasons: Secured Area

[FR Doc. 2015-19216 Filed 8-6-15; 8:45 am]

BILLING CODE 4210-67-P